DEPARTMENT OF HEALTH AND HUMAN SERVICES

Health Resources and Services Administration

Agency Information Collection Activities: Proposed Collection: Public Comment Request; Information Collection Request Title: Rural Health Network Development Planning Program Performance Improvement and Measurement System, OMB No. 0915-0384—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 10, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Rural Health Network Development Planning Program Performance Improvement and Measurement System, OMB No. 0915-0384—Revision.

Abstract: HRSA administers the Rural Health Network Development Planning Program (Network Planning Program), which is authorized under 42 U.S.C. 254c(f), 330A(f) of the Public Health Service Act. The purpose of the Network Planning Program is to promote the planning and development of integrated health care networks to address the following legislative aims: (1) achieve efficiencies; (2) expand access to, coordinate, and improve the quality of basic health care services and associated health outcomes; and (3) strengthen the rural health care system as a whole. The Network Planning Program supports 1 year of planning and brings together key parts of a rural health care delivery system, particularly those entities that may not have collaborated in the past, to establish and/or improve local capacity to strengthen rural community health interventions and enhance care coordination. HRSA currently collects information about the Network Planning Program grants using an OMB-approved set of performance measures and seeks to revise that approved collection. The proposed changes are a result of keeping this instrument relevant and responsive to the Network Planning Program's needs and to improve clarity and ease of reporting for respondents.

Need and Proposed Use of the Information: HRSA developed performance measures to provide data on the Network Planning Program and to enable HRSA to provide aggregate program data required under the Government Performance and Results Act of 1993. Data from this information collection will help support program compliance, inform rural needs, guide the delivery of technical assistance, and shape federal program decisions. The measures cover the principal topic areas of interest to HRSA, such as Capacity/Organizational information and Sustainability. All measures will evaluate HRSA's progress toward achieving its Network Planning Program goals.

The proposed collection will reduce the total number of measures from 24 to 15. The following sections will be removed: Network Infrastructure, Network Collaboration, and Network Assessment. In the proposed collection, grantees instead complete two sections titled “Capacity/Organizational Information” and “Sustainability.” The “Capacity/Organizational Information” section will include 10 measures, and HRSA will modify the current “Sustainability” section by reducing the number of measures from 10 to five measures.

Although the proposed total number of measures has been reduced, there is a proposed increase in the estimated total burden hours compared to the previous ICR package. There are several contributing factors to the increase in estimated total burden. The increase in burden is to account for a new set of awardees who will be new to this data collection. The new set of awardees represent a group of organizations who are funded in the 1-year Network Planning Program. These organizations vary in data collection and reporting capacity as well as vary in the number of member organizations it must coordinate with to report this data to HRSA. The amount of time it takes to build processes to coordinate and collect data from network partners will vary. Larger networks with multiple partners across different organizations are anticipated to report higher burdens due to the wait time in between requests. Networks who already have established working relationships with its member organizations may already have existing processes in place to effectively collect data for this program.

Likely Respondents: The respondents for these measures are Rural Health Network Development Planning Program award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Network Development Planning Program Performance Measures | 25 | 1 | 25 | 11.25 | 281.25
Total | 25 | 1 | 25 | 11.25 | 281.25

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2026-02473 Filed 2-6-26; 8:45 am]

BILLING CODE 4165-15-P